DEPARTMENT OF COMMERCE

National Oceanic and Atmospheric Administration

[I.D. 011905F]

Proposed Information Collection; Comment Request; Coral Reef Conservation Program Administration

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 28, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Bill Millhouser 301-713-3155 x189.

SUPPLEMENTARY INFORMATION:

I. Abstract

The Coral Reef Conservation Grant Program provides funds to broad-based applicants with experience in coral reef conservation to conduct activities to protect and conserve coral reef ecosystems. The information submitted is used to determine: (1) whether the applicant qualifies for a waiver of matching funds, and (2) if a proposed project is consistent with the coral reef conservation priorities of authorities with jurisdiction over the area where the project will be conducted.

II. Method of Collection

Information describing the eligibility requirements for a waiver of matching funds is described in the Announcement for Federal Funding Opportunity (FFO) for the NOAA Coral Reef Conservation Grant Program. The FFO can be obtained at http://www.grants.gov or http://www.coralreef.noaa.gov/grants.html. Respondents are encouraged to email their letters justifying the need for a waiver.

III. Data

OMB Number: 0648-0448.

Form Number: None.

Type of Review: Regular submission.

Affected Public: State, Local or Tribal Government; Federal Government; and Not-for-profit institutions.

Estimated Number of Respondents: 38.

Estimated Time Per Response: Match Waiver Request, 1 hour; and Proposal Comment, 1 hour.

Estimated Total Annual Burden Hours: 78.

Estimated Total Annual Cost to Public: $1,900.

IV. Request for Comments

Comments are invited on: (a) whether the proposed collection of information is necessary for the proper performance of the functions of the agency, including whether the information shall have practical utility; (b) the accuracy of the agency=s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 18, 2005.
Gwellnar Banks,
Management Analyst, Office of the Chief Information Officer.

[FR Doc. 05-1458 Filed 1-26-05; 8:45 am]

BILLING CODE 3510-08-S